DEPARTMENT OF HEALTH AND HUMAN SERVICES

Centers for Disease Control and Prevention

National Center for Injury Prevention and Control Initial Review Group

In accordance with section 10(a)(2) of the Federal Advisory Committee Act (Pub. L. 92-463), the Centers for Disease Control and Prevention (CDC) announce the following meeting:

Name: National Center for Injury Prevention and Control (NCIPC) Initial Review Group (IRG).

Times and Date: 9 a.m.-9:30 a.m., July 9, 2008 (Open); 9:30 a.m.-5 p.m., July 9, 2008 (Closed).

Place: Doubletree Hotel Atlanta-Buckhead, 3342 Peachtree Road, NE., Atlanta, Georgia 30326, Telephone: 404-231-1234.

Status: Portions of the meetings will be closed to the public in accordance with provisions set forth in Section 552b(c)(4) and (6), Title 5, U.S.C., and the Determination of the Director, Management Analysis and Services Office, CDC, pursuant to Section 10(d) of Public Law 92-463.

Purpose: This group is charged with providing advice and guidance to the Secretary, Department of Health and Human Services, and the Director, CDC, concerning the scientific and technical merit of grant and cooperative agreement applications received from academic institutions and other public and private profit and nonprofit organizations, including State and local government agencies, to conduct specific injury research that focuses on prevention and control.

Matters to be Discussed: The meeting will include the review, discussion, and evaluation of individual research grant and cooperative agreement applications submitted in response to Fiscal Year 2008 Requests for Applications related to the following individual research announcement: “Elimination of Health Disparities Through Translation Research (R18), Request for Application (RFA) CD08-001 for the National Center for Environmental Health Applications.”

Agenda items are subject to change as priorities dictate.

Contact Person for More Information: Jane Suen, PhD, M.S., Executive Secretary, NCIPC IRG, CDC, 4770 Buford Highway, NE., M/S F-62, Atlanta, Georgia 30341, telephone 770-488-4281.

The Director, Management Analysis and Services Office has been delegated the authority to sign Federal Register notices pertaining to announcements of meetings and other committee management activities for both CDC and the Agency for Toxic Substances and Disease Registry.

Dated: June 16, 2008.
Elaine L. Baker,
Director, Management Analysis and Services Office, Centers for Disease Control and Prevention.

[FR Doc. E8-14158 Filed 6-20-08; 8:45 am]

BILLING CODE 4163-18-P